SECURITIES AND EXCHANGE COMMISSION

Sunshine Act Meeting

Notice is hereby given, pursuant to the provisions of the Government in the Sunshine Act, Public Law 94-409, that the Securities and Exchange Commission Investor Advisory Committee will hold a meeting on Thursday, February 12, 2015, in Multi-Purpose Room LL-006 at the Commission's headquarters, 100 F Street NE., Washington, DC. The meeting will begin at 10:00 a.m. (ET) and will be open to the public. Seating will be on a first-come, first-served basis. Doors will open at 9:30 a.m. Visitors will be subject to security checks. The meeting will be Webcast on the Commission's Web site at www.sec.gov.

On January 21, 2015, the Commission issued notice of the Committee meeting (Release No. 33-9707), indicating that the meeting is open to the public (except during portions of the meeting reserved for meetings of the Committee's subcommittees), and inviting the public to submit written comments to the Committee. This Sunshine Act notice is being issued because a quorum of the Commission may attend the meeting.

The agenda for the meeting includes: Remarks from Commissioners; a recommendation of the Market Structure subcommittee on shortening the trade settlement cycle; a discussion of proxy access; an update on the rule proposal of the Financial Industry Regulatory Authority (“FINRA”) regarding implementation of the Comprehensive Automated Risk Data System; an update on Municipal Securities Rulemaking Board and FINRA proposals for improved disclosures for same-day, retail-size principal transactions in fixed income securities; and nonpublic subcommittee meetings.

For further information, please contact the Office of the Secretary at (202) 551-5400.

Dated: February 5, 2015.
Brent J. Fields,
Secretary.

[FR Doc. 2015-02795 Filed 2-6-15; 11:15 am]

BILLING CODE 8011-01-P